DEPARTMENT OF TRANSPORTATION

Surface Transportation Board

[STB Finance Docket No. 34244]

Dakota Missouri Valley & Western Railroad, Inc.—Lease and Operation Exemption—Between DMVW RR and Marshal County Regional Railroad Authority

Dakota Missouri Valley & Western Railroad, Inc. (DMVW), a Class III rail carrier, has filed a verified notice of exemption under 49 CFR 1150.41 et seq. to lease from Marshall County Regional Railroad Authority (MCRRA), and operate 71.91 miles of rail line between milepost 115.08 in Brown County, SD, and milepost 43.17 at Geneseo Jct., ND.¹

¹ In its original filing, DMVW indicated that the exemption was filed under 49 CFR 1150.31, and that the mileage was 71.90. By fascimile received on August 30, 2002, DMVW corrected the citation to the rules and the mileage.

DMVW certifies that its projected annual revenues as a result of this transaction will not exceed the Class III rail carrier threshold.

DMVW indicates that it consummated the transaction on August 13, 2002.²

² Under 49 CFR 1150.42(b), the exemption became effective on August 23, 2002 (7 days after the exemption was filed). DMVW's reference to an August 13, 2002 consummation date possibly reflects execution of a lease agreement between DMVW and MCRRA on that date. According to the verified notice, DMVW intended to begin operating over the line on August 26, 2002.

If the notice contains false or misleading information, the exemption is void ab initio. Petitions to revoke the exemption under 49 U.S.C. 10502(d) may be filed at any time. The filing of a petition to revoke will not automatically stay the transaction.

An original and 10 copies of all pleadings, referring to STB Finance Docket No. 34244, must be filed with the Surface Transportation Board, 1925 K Street, NW., Washington, DC 20423-0001. In addition, a copy of each pleading must be served on Dennis Ming, 1131 S. 22nd St., Bismarck, ND 58504.

Board decisions and notices are available on our Web site at WWW.STB.DOT.GOV.

Decided: September 5, 2002.
By the Board, David M. Konschnik, Director, Office of Proceedings.
Vernon A. Williams,
Secretary.

[FR Doc. 02-23094 Filed 9-12-02; 8:45 am]

BILLING CODE 4915-00-P